COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes product(s) previously furnished by such agencies.

DATES: Comments must be received on or before: May 12, 2024.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Service(s)

Service Type: Custodial Service

Mandatory for: US Army, Air National Guard Readiness Center, Joint Base Andrews, Maryland

Authorized Source of Supply: Chimes District of Columbia, Baltimore, MD

Contracting Activity: DEPT OF THE ARMY, W39L USA NG READINESS CENTER

In accordance with 41 CFR 51-5.3(b), the Committee intends to add this services requirement to the Procurement List as a mandatory purchase only for DEPT OF THE ARMY, W39L USA NG READINESS CENTER at the US Army, Air National Guard Readiness Center, Joint Base Andrews, Maryland with the proposed qualified nonprofit agency as the authorized source of supply. Prior to adding the service to the Procurement List, the Committee will consider other pertinent information, including information from Government personnel and relevant comments from interested parties regarding the Committee's intent to geographically limit this services requirement.

Product(s)

NSN(s)—Product Name(s):

8415-01-710-2784—Liner Jacket, Parka, US Coast Guard, Blue, X-Small/X-Short

8415-01-710-2790—Liner Jacket, Parka, US Coast Guard, Blue, X-Small/Short

8415-01-710-2792—Liner Jacket, Parka, US Coast Guard, Blue, X-Small/Regular

8415-01-710-2795—Liner Jacket, Parka, US Coast Guard, Blue, Small/X-Short

8415-01-710-2796—Liner Jacket, Parka, US Coast Guard, Blue, Small/Short

8415-01-710-2798—Liner Jacket, Parka, US Coast Guard, Blue, Small/Regular

8415-01-710-2800—Liner Jacket, Parka, US Coast Guard, Blue, Small/Long

8415-01-710-2802—Liner Jacket, Parka, US Coast Guard, Blue, Medium/X-Short

8415-01-710-2803—Liner Jacket, Parka, US Coast Guard, Blue, Medium/Short

8415-01-710-2805—Liner Jacket, Parka, US Coast Guard, Blue, Medium/Regular

8415-01-710-2806—Liner Jacket, Parka, US Coast Guard, Blue, Medium/Long

8415-01-710-2808—Liner Jacket, Parka, US Coast Guard, Blue, Medium/X-Long

8415-01-710-2809—Liner Jacket, Parka, US Coast Guard, Blue, Large/Short

8415-01-710-2811—Liner Jacket, Parka, US Coast Guard, Blue, Large/Regular

8415-01-710-2813—Liner Jacket, Parka, US Coast Guard, Blue, Large/Long

8415-01-710-2814—Liner Jacket, Parka, US Coast Guard, Blue, X Large/X-Long

8415-01-710-2815—Liner Jacket, Parka, US Coast Guard, Blue, Large/XX-Long

8415-01-710-2819—Liner Jacket, Parka, US Coast Guard, Blue, X-Large/Regular

8415-01-710-2821—Liner Jacket, Parka, US Coast Guard, Blue, X-Large/Long

8415-01-710-2823—Liner Jacket, Parka, US Coast Guard, Blue, X-Large/X-Long

8415-01-710-2824—Liner Jacket, Parka, US Coast Guard, Blue, X-Large/XX-Long

8415-01-710-2826—Liner Jacket, Parka, US Coast Guard, Blue, XX-Large/Regular

8415-01-710-2827—Liner Jacket, Parka, US Coast Guard, Blue, XX-Large/Long

8415-01-710-2830—Liner Jacket, Parka, US Coast Guard, Blue, XX-Large/X-Long

8415-01-710-2831—Liner Jacket, Parka, US Coast Guard, Blue, XX-Large/XX-Long

Authorized Source of Supply: Bestwork Industries for the Blind, Inc., Cherry Hill, NJ

Contracting Activity: DEFENSE LOGISTICS AGENCY, DLA TROOP SUPPORT (DLATS)

In accordance with 41 CFR 51-6.13(b), the Parka Liners above are being proposed for administrative addition to the Procurement List (PL) as a different size, color, or other variation of an existing Parka Liner already on the PL for the U.S. Navy, NSN: 8415-01-691-1301(s)). The Committee intends to approve the administrative addition, and provided the new product has not been procured within the preceding 12 months, the new Parka Liner will be automatically added to the PL.

NSN(s)—Product Name(s):

8415-01-702-6109—Trousers, Chemical Protective, UIPE FoS General Purpose, XS-Short

8415-01-702-6507—Trousers, Chemical Protective, UIPE FoS General Purpose, XS-Regular

8415-01-702-6594—Trousers, Chemical Protective, UIPE FoS General Purpose, S-Regular

8415-01-702-7002—Trousers, Chemical Protective, UIPE FoS General Purpose, M-XLong

8415-01-702-7009—Trousers, Chemical Protective, UIPE FoS General Purpose, L-XLong

8415-01-702-7006—Trousers, Chemical Protective, UIPE FoS General Purpose, L-Regular

8415-01-702-6597—Trousers, Chemical Protective, UIPE FoS General Purpose, S-Long

8415-01-702-7004—Trousers, Chemical Protective, UIPE FoS General Purpose, L-Long

8415-01-702-7017—Trousers, Chemical Protective, UIPE FoS General Purpose, XL-XLong

8415-01-702-7019—Trousers, Chemical Protective, UIPE FoS General Purpose, 2XL-Regular

8415-01-702-7022—Trousers, Chemical Protective, UIPE FoS General Purpose, 2XL-XLong

8415-01-702-5735—Shirt, Chemical Protective, UIPE FoS General Purpose, XS-XShort

8415-01-702-5751—Shirt, Chemical Protective, UIPE FoS General Purpose, XS-Short

8415-01-702-5761—Shirt, Chemical Protective, UIPE FoS General Purpose, S-Regular

8415-01-702-5763—Shirt, Chemical Protective, UIPE FoS General Purpose, S-Long

8415-01-702-5772—Shirt, Chemical Protective, UIPE FoS General Purpose, M-XShort

8415-01-702-5804—Shirt, Chemical Protective, UIPE FoS General Purpose, L-XShort

8415-01-702-5821—Shirt, Chemical Protective, UIPE FoS General Purpose, XL-Short

8415-01-702-5829—Shirt, Chemical Protective, UIPE FoS General Purpose, XL-XLong

8415-01-702-5806—Shirt, Chemical Protective, UIPE FoS General Purpose, L-Short

8415-01-702-5814—Shirt, Chemical Protective, UIPE FoS General Purpose, L-XLong

Authorized Source of Supply: Goodwill Industries of South Florida, Inc., Miami, FL and ReadyOne Industries, Inc., El Paso, TX

Contracting Activity: DEPT OF THE ARMY, W6QK ACC-APG NATICK

In accordance with 41 CFR 51-6.13(b), the Trousers, Chemical Protective, Uniform Integrated Protection Ensemble (UIPE) Family of Systems (FOS) General Purpose are being proposed for administrative addition to the PL as a different size, color, or other variation of an existing Trouser, Integrated Chemical Biological Lightweight Improved Thermal Ensemble (ICB Lite) already on the PL for the U.S. Army (840068001S(s)). The Committee intends to approve the administrative action, and provided the new product has not been procured within the preceding twelve (12) months, the new Trousers will be automatically added to the PL.

Deletions

The following product(s) are proposed for deletion from the Procurement List:

Product(s)

NSN(s)—Product Name(s):

7530-01-517-2729—Folder, File, Pressboard, Expanding, Two 1½″ Fasteners, Green, Letter

7530-01-517-2730—Folder, File, Pressboard, Expanding, One 1½″ Fastener, Green, Letter

7530-01-484-1865—Folder, File, Pressboard, Expanding, One 1½″ Fastener, Green, Legal

Authorized Source of Supply: LC Industries, Inc., Durham, NC

Contracting Activity: GSA/FAS ADMIN SVCS ACQUISITION BR(2, NEW YORK, NY

NSN(s)—Product Name(s):

8520-01-555-2891—Cleaner, Hand, Biorenewable, Waterless, Pumice, 1 gl

8520-01-555-2902—Cleaner, Hand, Biorenewable, Waterless, 1 gl

Authorized Source of Supply: Outlook Nebraska, Inc, Omaha, NE

Authorized Source of Supply: VisionCorps, Lancaster, PA

Contracting Activity: GSA/FSS GREATER SOUTHWEST ACQUISITI, FORT WORTH, TX

NSN(s)—Product Name(s):

7530-00-NIB-0675—Classification Folder, Pressboard, 4 Part, 1 Divider, Legal Size, Dark Green

7530-00-NIB-0676—Classification Folder, Pressboard, 4 Part, 1 Divider, Legal Size, Yellow

7530-00-286-7287—Folder, File, Pressboard, ⅕ Cut Tab, Light Green, Legal

7530-00-926-8984—Folder, File, Pressboard, End or Side Self Tab, 1″ Fastener, Light Green, Legal

7530-00-985-7009—Folder, File, Pressboard, 1″ Capacity, Straight Cut Tab, Red, Letter

Authorized Source of Supply: Georgia Industries for the Blind, Bainbridge, GA

Contracting Activity: GSA/FAS ADMIN SVCS ACQUISITION BR(2, NEW YORK, NY

NSN(s)—Product Name(s):

2815-01-464-5543—Parts Kit, Piston Assembly, HMMWV Engine

Authorized Source of Supply: Georgia Industries for the Blind, Bainbridge, GA

Contracting Activity: DLA LAND AND MARITIME, COLUMBUS, OH

Michael R. Jurkowski,
Director, Business Operations.

[FR Doc. 2024-07787 Filed 4-11-24; 8:45 am]

BILLING CODE 6353-01-P